NATIONAL TRANSPORTATION SAFETY BOARD

Sunshine Act Meeting Notice

Time and Date: 9:30 a.m., Tuesday, September 17, 2002.

Place: NTSB Conference Center, 429 L'Enfant Plaza SW., Washington, DC 20594.

STATUS: The three items are Open to the Public.

Matters to be Considered:

7493—Marine Accident Report—Grounding of the Small Passenger Vessel Finest, Sandy Hook, New Jersey, January 4, 2001.

7494—Marine Accident Report—Fire On Board the Small Passenger Vessel Seastreak New York, Sandy Hook, New Jersey, September 28, 2001.

7371A—Hazardous Materials Accident Report—Release and Ignition of Hydrogen Following the Collision Between a Tractor/Semitrailer with Horizontally Mounted Cylinders and a Pickup Truck near Ramona, Oklahoma, May 1, 2001.

News Media Contact: Telephone: (202) 314-6100.

Individuals requesting specific accommodations should contact Ms. Carolyn Dargan at (202) 314-6305 by Friday, September 13, 2002.

FOR MORE INFORMATION CONTACT: Vicky D'Onofrio, (202) 314-6410.

Dated: September 6, 2002.
Vicky D'Onofrio,
Federal Register Liaison Officer.

[FR Doc. 02-23082 Filed 9-6-02; 2:25 pm]

BILLING CODE 7533-10-M